DEPARTMENT OF THE TREASURY

Submission for OMB Review; Comment Request

May 21, 2013.

The Department of the Treasury will submit the following information collection request to the Office of Management and Budget (OMB) for review and clearance in accordance with the Paperwork Reduction Act of 1995, Public Law 104-13, on or after the date of publication of this notice.

DATES: Comments should be received on or before June 24, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0059.

Type of Review: Revision of a currently approved collection.

Title: Usual and Customary Business Records Relating to Tax-Free Alcohol (TTB REC 5150/3).

Abstract: Tax-free alcohol is used for nonbeverage purposes by educational organizations, hospitals, laboratories, etc. These records maintain accountability of spirits and protect tax revenue and public safety.

Affected Public: Private Sector: Not-for-profit institutions; Federal Government; State, Local, and Tribal Governments.

Estimated Annual Burden Hours: 1.

OMB Number: 1513-0061.

Type of Review: Extension without change of a currently approved collection.

Title: Letterhead Applications and Notices Relating to Denatured Spirits (TTB REC 5150/2).

Abstract: Denatured spirits are used for nonbeverage industrial purposes in the manufacture of personal and household products. Permits, applications, and notices control the authorized uses and flow of denatured spirits, and protect the tax revenue and public safety.

Affected Public: Private Sector: Businesses or other for-profits, Not-for-profit institutions; State, Local and Tribal Governments.

Estimated Annual Burden Hours: 1,890.

OMB Number: 1513-0071.

Type of Review: Extension without change of a currently approved collection.

Title: Tobacco Products Importer or Manufacturer—Records of Large Cigar Wholesale Prices (TTB REC 5230/1).

Abstract: Because the tax on large cigars is based on the sales price, these records are needed to verify that the correct tax has been determined by the manufacturer or importer.

Affected Public: Private Sector: Businesses or other for-profits.

Estimated Annual Burden Hours: 1,906.

OMB Number: 1513-0127.

Type of Review: Extension without change of a currently approved collection.

Title: Petition for the establishment of an American Viticultural Area.

Abstract: TTB establishes American Viticultural Areas (AVAs) through the regulatory process based on petitions submitted from the public. TTB regulations in 27 CFR Part 9 specify the information that must be included in the petition for TTB to be able to evaluate the petition and consider creating a new AVA or amending the name, boundary, or other terms of an existing AVA.

Affected Public: Private Sector: Businesses or other for-profits, Farms.

Estimated Annual Burden Hours: 1,430.

Dawn D. Wolfgang,
Treasury PRA Clearance Officer.

[FR Doc. 2013-12446 Filed 5-23-13; 8:45 am]

BILLING CODE 4810-31-P